ENVIRONMENTAL PROTECTION AGENCY

[FRL-6981-7]

Agency Information Collection Activities: Proposed Collection; Comment Request; National Emission Standards for Hazardous Air Pollutants for Beryllium Rocket Motor Firing; 40 CFR Part 61, Subpart D

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): National Emission Standards for Hazardous Air Pollutants for Beryllium Rocket Motor Firing; 40 CFR part 61, subpart D; EPA ICR Number 1125.03; OMB Number 2060-0394; expiring October 31, 2001. Before submitting the ICR to OMB for review and approval, EPA is soliciting comments on specific aspects of the proposed information collection as described below.

DATES: Comments must be submitted on or before July 23, 2001.

ADDRESSES: U.S. Environmental Protection Agency, 401 M Street S.W., Office of Compliance, Mail Code 2223A, Washington, D.C. 20460. A hard copy of an ICR may be obtained without charge by calling the identified information contact individual.

FOR FURTHER INFORMATION CONTACT: Elson Lim at (202) 564-7006 and FAX (202) 564-0050, or by E-mail at Lim.Elson@epa.gov.

SUPPLEMENTARY INFORMATION: An Agency may not conduct or sponsor, and a person is not required to respond to, a collection of information unless it displays a currently valid OMB control number. The OMB control numbers for EPA's regulations are displayed in 40 CFR part 9.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden means the total time, effort, or financial resources expended by persons to generate, maintain, retain or disclose or provide information to or for a Federal agency. This includes the time needed to review instructions; develop, acquire, install, and utilize technology and systems for the purposes of collection, validating, and verifying information, processing and maintaining information, and disclosing and providing information; adjust the existing ways to comply with any previously applicable instructions and requirements; train personnel to be able to respond to a collection of information; search data sources; complete and review the collection of information; and transmit or otherwise disclose the information.

ICR

In compliance with the Paperwork Reduction Act (44 U.S.C. 3501 et seq.), this notice announces that EPA is planning to submit the continuing Information Collection Request (ICR) to the Office of Management and Budget (OMB).

Title: National Emission Standards for Hazardous Air Pollutants for Beryllium Rocket Motor Firing; 40 CFR part 61, subpart D; EPA ICR Number 1125.03, OMB Number 2060-0394, expiring October 31, 2001.

Affected Entities: These standards apply to sources that are rocket motor test sites that use beryllium propellant.

Abstract: The National Emission Standards for Hazardous Air Pollutants (NESHAP) 40 CFR part 61, subpart D was promulgated on April 6, 1973, and amended on November 7, 1985, for this source category. These standards establish limits for beryllium. The rule requires subject test sites to test ambient air for beryllium during and after firing a rocket motor. Samples are analyzed within 30 days and results are reported to EPA Region by registered letter by the business day following the determination and calculation. The rule also requires continuous stack sampling of beryllium combustion products during and after firing a rocket motor, and analysis and reporting within 30 days. In addition, other reporting requirements include notification of anticipated firing date; air quality emissions and ambient air quality and emission test reports. Recordkeeping requirements include air sampling test results, record of emission test results and making these records available to the Agency. Records are kept for a period of two years for the air sampling test results.

Burden Statement: In the currently approved ICR, the total hours were estimated to be 8.33 and the recordkeeping and reporting burden was estimated to be $299 per year. This estimate was based on one test facility. There are no capital and start-up cost for this ICR. There is also no operation and maintenance cost documented since no new sources are anticipated to become subject of these standards. There are no costs for continuous emission monitoring for this ICR and no known information that may impact the burden in the next ICR.

Dated: May 9, 2001.
Michael Stahl,
Director, Office of Compliance.

[FR Doc. 01-12895 Filed 5-22-01; 8:45 am]

BILLING CODE 6560-50-P